DEPARTMENT OF HOMELAND SECURITY

Coast Guard

33 CFR Part 117

[Docket No. USCG-2018-0702]

Drawbridge Operation Regulation; Lake Washington Ship Canal, Seattle, WA

AGENCY: Coast Guard, DHS.

ACTION: Notice of deviation from drawbridge regulation.

SUMMARY: The Coast Guard has issued a temporary deviation from the operating schedule that governs the Montlake Bridge across the Lake Washington Ship Canal, mile 5.2, at Seattle, WA. The deviation is necessary to accommodate vehicular traffic attending football games at Husky Stadium at the University of Washington. This deviation allows the bridge to remain in the closed-to-navigation position.

DATES: This deviation is effective from 11:30 a.m. on September 8, 2018 through 11 p.m. on November 17, 2018.

ADDRESSES: The docket for this deviation, USCG-2018-0702 is available at http://www.regulations.gov. Type the docket number in the “SEARCH” box and click “SEARCH.” Click on Open Docket Folder on the line associated with this deviation.

FOR FURTHER INFORMATION CONTACT: If you have questions on this temporary deviation, call or email Mr. Steven Fischer, Bridge Administrator, Thirteenth Coast Guard District; telephone 206-220-7282, email d13-pf-d13bridges@uscg.mil.

SUPPLEMENTARY INFORMATION: Washington Department of Transportation (bridge owner), has requested a temporary deviation from the operating schedule for the Montlake Bridge across the Lake Washington Ship Canal, at mile 5.2, at Seattle, WA. The deviation is necessary to manage heavy vehicular traffic expected for University of Washington football games. While all dates have been released, exact game times for five of the six events scheduled for Husky Stadium have not yet been determined by the National Collegiate Athletic Association. The times for TBA (Time to Be Announced) closures on September 22, 2018, September 29, 2018, October 20, 2018, November 3, 2018 and November 17, 2018 will be announced in the Local Notice to Mariners as they become available. The Montlake Bridge in the closed-to-navigation position provides 30 feet of vertical clearance throughout the navigation channel, and 46 feet of vertical clearance throughout the center 60 feet of the bridge; vertical clearance references to the Mean Water Level of Lake Washington.

The normal operating schedule for the Montlake Bridge operates in accordance with 33 CFR 117.1051(e). The deviation period and span operation is described in the table below:

Time/date start | Time/date end | Action
11:30 a.m. to 2 p.m. Sep 8, 2018 | 5 p.m. to 7:30 p.m. Sep 8, 2018 | span in the closed-to-navigation position.
TBA Sep 22, 2018 | TBA Sep 22, 2018 | span in the closed-to-navigation position.
TBA Sep 29, 2018 | TBA Sep 29, 2018 | span in the closed-to-navigation position.
TBA Oct 20, 2018 | TBA Oct 20, 2018 | span in the closed-to-navigation position.
TBA Nov 3, 2018 | TBA Nov 3, 2018 | span in the closed-to-navigation position.
TBA Nov 17, 2018 | TBA Nov 17, 2018 | span in the closed-to-navigation position.

Waterway usage on the Lake Washington Ship Canal ranges from commercial tug and barge to small pleasure craft. Vessels able to pass through the bridge in the closed-to-navigation position may do so at anytime. The bridge will be able to open for emergency vessels in route to a call when an hour notice is given to the bridge operator. The Lake Washington Ship Canal has no immediate alternate route for vessels to pass. The Coast Guard will also inform the users of the waterways through our Local and Broadcast Notices to Mariners of the change in operating schedule for the bridge so that vessels can arrange their transits to minimize any impact caused by the temporary deviation.

In accordance with 33 CFR 117.35(e), the drawbridge must return to its regular operating schedule immediately at the end of the designated time period. This deviation from the operating regulations is authorized under 33 CFR 117.35.

Dated: July 31, 2018.
Steven M. Fischer,
Bridge Administrator, Thirteenth Coast Guard District.

[FR Doc. 2018-16848 Filed 8-6-18; 8:45 am]

BILLING CODE 9110-04-P